DEPARTMENT OF DEFENSE

Department of the Army, Corps of Engineers

33 CFR Part 334

Archers Creek, Ribbon Creek, and Broad River; U.S. Marine Corps Recruit Depot, Parris Island, SC; Danger Zone

AGENCY: United States Army Corps of Engineers, Department of Defense.

ACTION: Final rule.

SUMMARY: The U.S. Army Corps of Engineers (Corps) is amending its regulations by modifying two existing danger zones that are located adjacent to the rifle range and pistol range at the U.S. Marine Corps Recruit Depot Parris Island in Beaufort County, South Carolina. The amendments include reformatting the regulations for clarity, modifying the boundaries of both danger zones, and modifying the hours of range operations from 6:30 a.m. to 5 p.m. to 6 a.m. to 5 p.m. Monday through Friday. These amendments will enhance the ability of the U.S. Marine Corps to provide for the safe operation of the existing rifle and pistol ranges.

DATES: Effective date: November 10, 2011.

ADDRESSES: U.S. Army Corps of Engineers, Attn: CECW-CO (David B. Olson), 441 G Street NW., Washington, DC 20314-1000.

FOR FURTHER INFORMATION CONTACT: Mr. David B. Olson, Headquarters, Operations and Regulatory Community of Practice, Washington, DC at 202-761-4922 or Mr. Nathaniel I. Ball, U.S. Army Corps of Engineers, Charleston District, Regulatory Division, at 843-329-8047.

SUPPLEMENTARY INFORMATION: Pursuant to its authorities in Section 7 of the Rivers and Harbors Act of 1917 (40 Stat 266; 33 U.S.C. 1) and chapter XIX of the Army Appropriations Act of 1919 (40 Stat 892; 33 U.S.C. 3) the Corps is amending the regulations at 33 CFR part 334 to provide for the safe operation of the existing rifle and pistol ranges at the U.S. Marine Corps Recruit Depot Parris Island. The modifications to the regulations are described below.

The modifications include reformatting the regulations to describe the areas, the regulations, and enforcement. This format is consistent with other danger zone regulations and provides greater clarity. The boundaries of both danger zones have been modified to incorporate modern methods of measuring ballistic footprints and design criteria for range construction. Since these changes to the boundaries of the areas are relatively minor, the existing live fire warning signs will continue to be used to ensure safe navigation in the vicinity of the rifle and pistol ranges.

These regulations allow the Commanding General, U.S. Marine Corps Recruit Depot Parris Island to restrict passage of persons, vessels and other watercraft in navigable waters adjacent to the existing rifle range and pistol range between the hours of 6 a.m. and 5 p.m. Monday through Friday, and from 6 a.m. to 12 p.m. on Saturdays, National holidays excepted, and at other times as designated and properly published by the U.S. Marine Corps Recruit Depot Parris Island. The public will continue to be able to use these portions of Archers Creek, Ribbon Creek, and the Broad River when the rifle and pistol ranges are not in use.

The proposed rule was published in the June 17, 2011, edition of the Federal Register (76 FR 35379) with the docket number COE-2011-0010. No comments were received.

Procedural Requirements

a. Review Under Executive Order 12866. This regulation is issued with respect to a military function of the Department of Defense and the provisions of Executive Order 12866 do not apply.

b. Review Under the Regulatory Flexibility Act. This regulation has been reviewed under the Regulatory Flexibility Act (Pub. L. 96-354) which requires the preparation of a regulatory flexibility analysis for any regulation that will have a significant economic impact on a substantial number of small entities (i.e., small businesses and small governments). The Corps determined that this regulation would have little or no economic impact on the public nor would it result in any anticipated navigational hazard or interference with existing waterway traffic. This regulation will have no significant economic impact on small entities.

c. Review Under the National Environmental Policy Act. Due to the administrative nature of this action and because there is no intended change in the use of the area, this regulation will not have a significant impact to the quality of the human environment and, therefore, preparation of an environmental impact statement is not required. An environmental assessment has been prepared. It may be reviewed at the district office listed at the end of FOR FURTHER INFORMATION CONTACT, above.

d. Unfunded Mandates Act. This regulation does not impose an enforceable duty among the private sector and, therefore, is not a Federal private sector mandate and is not subject to the requirements of Section 202 or 205 of the Unfunded Mandates Reform Act (Pub. L. 104-4, 109 Stat. 48, 2 U.S.C. 1501 et seq.). We have also found under Section 203 of the Act, that small governments will not be significantly or uniquely affected by this regulation.

List of Subjects in 33 CFR Part 334

Danger zones, Navigation (water), Restricted areas, Waterways.

For the reasons set out in the preamble, the Corps amends 33 CFR Part 334 as follows:

PART 334—DANGER ZONE AND RESTRICTED AREA REGULATIONS

1. The authority citation for part 334 continues to read as follows:

Authority: 40 Stat. 266 (33 U.S.C. 1) and 40 Stat. 892 (33 U.S.C. 3).

2. Revise § 334.480 to read as follows:

§ 334.480 Archers Creek, Ribbon Creek, and Broad River; U.S. Marine Corps Recruit Depot, Parris Island, South Carolina; danger zones.

(a) The areas. (1) The danger zone on Archers Creek (between the Broad River and Beaufort River), Ribbon Creek, and the Broad River shall encompass all navigable waters of the United States, as defined at 33 CFR part 329, adjacent to the existing rifle range. This area is bounded by a line connecting the following coordinates: Commencing from the shoreline at the southernmost portion of the area, at latitude 32°19′59″ N, longitude 80°42′54″ W, thence to a point at latitude 32°20′05″ N, longitude 80°43′16″ W, thence to a point at latitude 32°21′40″ N, longitude 80°44′54″ W, thence to a point at latitude 32°22′20″ N, longitude 80°43′52″ W, thence to a point on the shoreline at latitude 32°21′34″ N, longitude 80°42′48″ W, thence follow the mean high water line southwesterly around Horse Island approximately 2.3 nautical miles to a point at latitude 32°21′22″ N, longitude 80°42′30″ W, thence to a point on the shoreline at latitude 32°20′56″ N, longitude 80°41′50″ W, thence follow the mean high water line southwesterly approximately 2.2 nautical miles to terminate at the southernmost portion of the area (the starting point).

(2) The danger zone on the Broad River shall encompass all navigable waters of the United States, as defined at 33 CFR part 329, adjacent to the existing pistol range. This area is bounded by a line connecting the following coordinates: Commencing from the shoreline at the easternmost portion of the area, at latitude 32°19′36″ N, longitude 80°42′34″ W, thence to a point at latitude 32°19′23″ N, longitude 80°42′50″ W, thence to a point at latitude 32°19′06″ N, longitude 80°43′31″ W, thence to a point at latitude 32°19′28″ N, longitude 80°43′54″ W, thence to a point at latitude 32°19′59″ N, longitude 80°43′28″ W, thence to a point on the shoreline at latitude 32°20′10″ N, longitude 80°43′10″ W, and thence follow the mean high water line southeasterly approximately 0.75 nautical miles to terminate at the easternmost portion of the area (the starting point).

(b) The regulations. (1) All persons, vessels, or other watercraft are prohibited from entering, transiting, anchoring, or drifting within the danger zones described in paragraph (a) of this section when the adjacent rifle or pistol ranges on U.S. Marine Corps Recruit Depot Parris Island are in use.

(2) Firing over these ranges will normally take place between the hours of 6 a.m. and 5 p.m., Monday through Friday, and from 6 a.m. to 12 p.m. on Saturday, National holidays excepted, and at other times as designated and properly published by the Commanding General, U.S. Marine Corps Recruit Depot Parris Island.

(3) Warning signs indicating the periods when the rifle range is in use will be posted by the entrances to Archers Creek and Ribbon Creek. In addition, warning signs will be placed along the shoreline on the Broad River near the upstream and downstream boundaries of both the rifle range and the pistol range.

(4) Warning flags shall be flown from the top of the lookout tower and on the rifle range and pistol range during actual firing. In addition, a sentry lookout will be on duty during actual firing and a patrol boat will be accessible for clearing the area and warning all approaching vessels of the danger zone and the schedule of firing.

(5) During storms or similar emergencies these areas shall be opened to vessels to reach safety without undue delay for the preservation of life and property.

(c) Enforcement. The regulations in this section shall be enforced by the Commanding General, U.S. Marine Corps Recruit Depot Parris Island and/or such persons or agencies as he/she may designate.

Dated: September 29, 2011.
Michael G. Ensch,
Chief, Operations and Regulatory, Directorate of Civil Works.

[FR Doc. 2011-26195 Filed 10-7-11; 8:45 am]

BILLING CODE 3720-58-P